DEPARTMENT OF TRANSPORTATION

Maritime Administration

Marine Highway Project Designation Open Season and Renewal of Project Designations

AGENCY: Maritime Administration, Department of Transportation.

ACTION: Notice of Open Season for Marine Highway Project Designation and Renewal of Project Designations.

SUMMARY: The U.S. Department of Transportation (DOT or Department) and Maritime Administration (MARAD) announce that the open season for the America's Marine Highway Program (AMHP) Marine Highway Project Designation application submissions is being extended to September 30, 2025 (Open Season). The purpose of this notice is to invite eligible applicants to submit Marine Highway Project Designation applications to DOT for review and consideration during this extended open season, in addition to outlining the process for renewing Project Designations once they have reached four years or older.

DATES: There will be eleven Project Designation application review sessions during the extended Marine Highway Project Designation Open Season. Table 1 contains the application due dates and review periods for each review session. Projects qualified for designation will be announced shortly after the completion of each review session. Applications can be submitted at any time but will only be reviewed during the next upcoming review session after submittal.

Table 1—Open Season Project Designation Application Submission and Review Timeline
Review session | Project application due date (11:59 p.m. pacific) | Project review period
1 | September 30, 2022 | October 1, 2022-December 30, 2022.
2 | January 31, 2023 | February 1, 2023-April 30, 2023.
3 | May 31, 2023 | June 1, 2023-August 31, 2023.
4 | September 30, 2023 | October 1, 2023-December 30, 2023.
5 | January 31, 2024 | February 1, 2024-April 30, 2024.
6 | May 31, 2024 | June 1, 2024-August 31, 2024.
7 | September 30, 2024 | October 1, 2024-December 30, 2024.
8 | January 31, 2025 | February 1, 2025-April 30, 2025.
9 | May 31, 2025 | June 1, 2025-August 31, 2025.
10 | September 30, 2025 | October 1, 2025-December 30, 2025.

ADDRESSES: Applicants can submit applications for new Project Designations or to renew current Project Designations via hardcopy to the AMHP, Office of Ports & Waterways Planning, W21-233, U.S. Department of Transportation, Maritime Administration, 1200 New Jersey Avenue SE, Washington, DC 20590, or via email to mh@dot.gov. Electronic applications are preferred. Telephone (202) 366-0704; Fax (202) 366-5904.

FOR FURTHER INFORMATION CONTACT: Timothy Pickering, Office of Ports & Waterways Planning, W21-312, U.S. Department of Transportation, Maritime Administration, 1200 New Jersey Avenue SE, Washington, DC 20590. Telephone (202) 366-0704; Fax (202) 366-5904; or email Mr. Pickering at mh@dot.gov. You may also visit MARAD's America's Marine Highway web page at https://www.maritime.dot.gov/grants/marine-highways/marine-highway. MARAD's Gateway Offices can also respond to questions about the AMHP, including questions about Route Designations, the Project Designation Open Season, or grant funding. The Gateway Offices' contact information is available on the MARAD website at https://www.maritime.dot.gov/about-us/gateway-offices/gateway-offices.

SUPPLEMENTARY INFORMATION: The AMHP was established by Section 1121 of the Energy Independence and Security Act of 2007 to reduce landside congestion through the designation of Marine Highway Routes. Section 405 of the Coast Guard and Maritime Transportation Act of 2012 further expanded the scope of the program to increase the utilization and efficiency of domestic freight transportation on Marine Highway Routes between U.S. ports by including routes that do not have parallel landside routes. The National Defense Authorization Act for Fiscal Year 2016 expanded the definition of short sea shipping (now referred to as marine highway transportation) to include freight vehicles carried aboard commuter ferry boats and cargo shipped in discrete units—or packages that are handled individually, palletized, or unitized specifically for transport. In addition, the revised final rule at 46 CFR part 393, which outlines the scope of the AMHP, became effective on January 2, 2018.

The Department's objective through this program is to reduce landside congestion and increase the use of domestic marine highway transportation by supporting the development of transportation options for shippers. These services provide economic and environmental benefits to the U.S. public at large. Marine Highway Designated Projects can improve safety and system resilience, and serve to reduce transportation-related air emissions, transportation costs for shippers, energy consumption, and costs associated with landside transportation infrastructure. Currently, the AMHP includes Marine Highway Routes in the continental U.S. in addition to the non-contiguous states of Hawaii and Alaska as well as the U.S. territories of Puerto Rico, U.S. Virgin Islands, American Samoa, Guam, and the Commonwealth of the Northern Mariana Islands. The AMHP includes projects that move freight along America's coastlines or waterways. For example, the change in definition to add freight vehicles carried on commuter passenger ferries allowed the AMHP to provide Federal support to several existing ferry services. The addition of palletized and unitized cargoes has allowed the AMHP to work with steel manufacturers, as well as less-than-container/less-than-truckload services.

New Project Designations

The purpose of the open season call for Project Designation applications is to seek eligible Marine Highway Projects that will establish new or expand existing marine highway services. Eligible projects may be designated as Marine Highway Projects by the Secretary of Transportation. Designation as a Marine Highway Project allows the Project Applicant or an eligible substitute applicant to become eligible for funding from the AMHP. MARAD will accept and review Project Designation applications that propose to operate a new service or expand an existing service on a designated Marine Highway Route, use U.S. documented vessels, and mitigate landside congestion or promote marine highway transportation.

New Project Designation Application Process

The Marine Highway Project Designation application process is detailed in 46 CFR 393.3, Marine Highway Projects (found at https://www.ecfr.gov/current/title-46/chapter-II/subchapter-K/part-393/subpart-B/section-393.3).

Although Marine Highway Project Designations often involve private entities, such as vessel operators, the Project Designation applications must be submitted to MARAD by a public entity, such as a State government (including State departments of transportation), metropolitan planning organization, port authority, or a Federally recognized tribal government. Public/private partnerships, however, are encouraged.

To be eligible for designation, the proposed Marine Highway Project must: (1) use U.S. vessels documented under 46 U.S.C. chapter 121; (2) mitigate landside congestion or promote marine highway transportation; (3) involve the carriage of cargo in marine highway transportation as defined in 46 U.S.C. 55605; (4) involve new or expand existing services for the carriage of cargo; and (5) operate on a designated Marine Highway Route.

Refer to 46 U.S.C. 55601 & 55605 and 46 CFR part 393 for further information on project eligibility and application requirements. For more information on recommending that a navigable waterway be designated as a Marine Highway Route, please contact your regional Gateway Office (https://www.maritime.dot.gov/about-us/gateway-offices/gateway-offices). Designating a Marine Highway Project does not obligate the Department to provide future funding to support the project; however, the designation is necessary for projects to be eligible for funding from the AMHP.

Renewal of Project Designations

As outlined in 46 CFR 393.3(i), Marine Highway Project Designations are effective for a period of five years. Original Project Applicants wishing to renew a Marine Highway Project Designation must submit an updated application no later than six months before their Project's five-year designation period ends. To meet that requirement, Project Applicants with Designated Projects more than four years old must submit an updated application by June 30th of the year prior to their expiration period. The year the Project was designated will constitute the Project's starting period. For example, projects designated in 2018 (or earlier) must submit an updated application by June 30, 2022; projects designated in 2019 must submit an updated application by June 30, 2023, and so forth. If approved for renewal by the Maritime Administrator, the Project Designation will be effective for another five years after its expiration period. Project Applicants can determine the year their Project was designated, and, therefore, their Project's expiration period, by referring to the latest list of current Marine Highway Project descriptions document, found at https://www.maritime.dot.gov/grants/marine-highways/marine-highway, or by contacting the AMHP Office.

The updated application should follow the format and contain the information outlined in 46 CFR 393.3(c) and must include any changed or new information that is relevant to the Project. The updated application affords Project Applicants the opportunity to make changes to or update the original Project Designation. Examples of such changes may include a change in operator, addition or removal of a port or facility, addition or change to the commodity moved, or a change to the public benefits associated with the project. If still applicable, Project Applicants may use information submitted in their original Project Designation application; however, applicants should make sure their application for renewal addresses any AMHP requirements that may have changed since submittal of their original application.

Project Applicants are required to submit their renewal applications by June 30th of the year prior to their Project's expiration period. If the Project Applicant notifies MARAD that they no longer wish to maintain their Project Designation or if the Project Applicant does not apply for a Project Designation renewal by the applicable deadline, those projects will no longer be designated Marine Highway Projects.

(Authority: 46 U.S.C. 55601 and 55605, 46 CFR part 393, 49 CFR 1.92 and 1.93)

By Order of the Maritime Administrator.
T. Mitchell Hudson, Jr.,
Secretary, Maritime Administration.

[FR Doc. 2022-15006 Filed 7-13-22; 8:45 am]

BILLING CODE 4910-81-P